DEPARTMENT OF THE INTERIOR

National Park Service

[NPS-WASO-NRNHL-17143; PPWOCRADI0, PCU00RP14.R50000]

National Register of Historic Places; Notification of Pending Nominations and Related Actions

Nominations for the following properties being considered for listing or related actions in the National Register were received by the National Park Service before October 31, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by December 10, 2014. Before including your address, phone number, email address, or other personal identifying information in your comment, you should be aware that your entire comment—including your personal identifying information—may be made publicly available at any time. While you can ask us in your comment to withhold your personal identifying information from public review, we cannot guarantee that we will be able to do so.

Dated: November 7, 2014.
J. Paul Loether,
Chief, National Register of Historic Places/National Historic Landmarks Program.

INDIANA

Lake County

Hobart Commercial District, Roughly bounded by Lake George, NSRR, Center & 2nd Sts., Hobart, 14001037

Noble County

Stanley School—District No. 2, (Indiana's Public Common and High Schools MPS) Cty. Rd. 300E, Albion, 14001038

Rush County

East Hill Cemetery, 704 E. IN 44, Rushville, 14001039

Wayne County

Stonebraker, John & Caroline, House, 100 S. Washington St., Hagerstown, 14001040

MARYLAND

Howard County

Carrollton Hall, 12280 Folly Quarter Rd., Ellicott City, 14001042

Oakdale, 16449 Ed Warfield Rd., Woodbine, 14001041

MICHIGAN

Isabella County

Mount Pleasant Downtown Historic District, Roughly bounded by Mosher, Franklin, Illinois & Washington Sts., Isabella, 14001043

Mecosta County

Morgan West Wheatland Cemetery, 55th Ave. between 10 & 11 Mile Rds., Wheatland Township, 14001044

Saginaw County

Saginaw County Fairgrounds Main Gate, 2701 E. Genesee Ave., Saginaw, 14001045

Wayne County

Springwells Park Historic District, Rotunda Dr., MCRR, Greenfield & Eastham Rds., Dearborn, 14001046

MONTANA

Flathead County

Flathead National Forest Backcountry Administrative Facilities, Flathead Natl. Forest, Hungry Horse, 14001047

NEW YORK

Franklin County

Debar Pond Lodge, Debar Park Rd., Duane, 14001048

NORTH CAROLINA

Cleveland County

Mauney, Jacob S., Memorial Library and Teacher's Home, 100 S. Piedmont Ave., Kings Mountain, 14001049

OHIO

Butler County

Snider, Dan F., Ford Dealership Building, 101 N. Main St., Middletown, 14001050

Cuyahoga County

Bryant Building, 1261 Superior Ave., Cleveland, 14001051

Preble County

Eaton High School, 307 Cherry St., Eaton, 14001052

TENNESSEE

Putnam County

United States Post Office and Court House, 9 E. Broad St., Cookeville, 14001053

WASHINGTON

Pierce County

Lakewold, 12317 Gravelly Lake Dr., Lakewood, 14001055

Spokane County

Seligman, William O. and Stella M., House, 2203 S. Manito Blvd., Spokane, 14001054

WEST VIRGINIA

Hampshire County

French's Mill, Augusta-Ford Hill Rd., Augusta, 14001056

Hebron Church, 10851 Carper's Pike, Yellow Springs, 14001057

Kuykendall, Nathaniel and Isaac, House, Address Restricted, Romney, 14001058

Yellow Spring Mill, Jct. of WV 259 & Cacapon River Rd., Yellow Spring, 14001059

Kanawha County

East End Historic District (Boundary Increase), Roughly bounded by Dixie, Greenbrier & Lee Sts., East & Shelton Alleys, Charleston, 14001060

Preston County

Old Hemlock, 17098 Brandonville Pike, Bruceton Mills, 14001061

Randolph County

Beverly Historic District, Roughly bounded by Dodson Run, Files Cr., Tygart Valley R. & Lewis St., Beverly, 14001062

[FR Doc. 2014-27859 Filed 11-24-14; 8:45 am]

BILLING CODE 4312-51-P